DEPARTMENT OF TRANSPORTATION

Federal Aviation Administration

Advisory Circular (AC) 23-8B, Flight Test Guide for Certification of Part 23 Airplanes

AGENCY: Federal Aviation Administration, DOT.

ACTION: Notice of issuance of advisory circular.

SUMMARY: This notice announces the issuance of Advisory Circular (AC) 23-8B, Flight Test Guide for Certification of Part 23 Airplanes. The AC aids standardization in normal, utility, acrobatic, and commuter category airplanes and consolidates existing policy and certain other advisory circulars into a single document. The material in the advisory circular is intended as a reference for airplane manufacturers, modifiers, FAA engineers, flight test engineers, and flight test pilots, including Delegation Option Authorization, Designated Alteration Station, and Designated Engineering Representative personnel. The AC cancels AC 23-8A and incorporates material harmonized with the European Joint Aviation Authorities.

DATES: Advisory Circular 23-8B was issued by the Manager of the Small Airplane Directorate on August 14, 2003.

How to Obtain Copies: A paper copy of AC 23-8B may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.airweb.faa.gov/AC.

Issued in Kansas City, Missouri, on September 3, 2003.
Frank Paskiewicz,
Acting Manager, Small Airplane Directorate, Aircraft Certification Service.

[FR Doc. 03-23871 Filed 9-17-03; 8:45 am]

BILLING CODE 4910-13-P